DEPARTMENT OF AGRICULTURE

Forest Service

Notice of New Fee Site; Federal Lands Recreation Enhancement Act (Title VIII, Pub. L. 108-447)

AGENCY: Caribou-Targhee National Forest, USDA Forest Service.

ACTION: Notice of New Fee Site.

SUMMARY: The Teton Basin Ranger District of the Caribou-Targhee National Forest will begin charging $100.00 for the overnight rental of Driggs Cabin. Rentals of other cabins and guard stations on the Caribou-Targhee National Forest have shown that the public appreciates and enjoys the availability of this type of facility. Funds from the rental will be used for the continued operation and maintenance of the Driggs Cabin.

DATES: The Driggs Cabin will become available for rent in January 2009. The Cabin will be open for the public to rent between November 1st and April 30th annually. The Driggs Cabin will continue to function as seasonal employee housing annually from May 1st to October 31st.

ADDRESSES: Forest Supervisor, Caribou-Targhee National Forest, 1405 Hollipark Dr., Idaho Falls, ID 83401.

FOR FURTHER INFORMATION CONTACT: Kurt Kluegel, Natural Resource Specialist, Teton Basin Ranger District, (208) 354-2312.

SUPPLEMENTARY INFORMATION: The Federal Recreation Lands Enhancement Act (Title VII, Pub. L. 108-447) directed the Secretary of Agriculture to publish a six-month advance notice in the Federal Register whenever new recreation fee areas are established.

The Caribou-Targhee National Forest currently has 11 other cabin rentals. These rentals are often fully booked throughout their rental season. A business analysis of Driggs Cabin has shown that people desire having this sort of developed recreation experience on the Caribou-Targhee National Forest. A market analysis indicates that the $100.00 per night fee is both reasonable and acceptable for this sort of recreation experience.

People wanting to rent Driggs Cabin will need to do so through the National Recreation Reservation Service, at http://www.reserveusa.com or by calling 1-877-444-6777. The National Recreation Reservation Service charges a fee for reservations.

Dated: July 17, 2008.
Wes Stumbo,
Caribou-Targhee National Forest, Engineering Branch Chief.

[FR Doc. E8-16892 Filed 7-23-08; 8:45 am]

BILLING CODE 3410-11-P